DEPARTMENT OF STATE

[Public Notice 3835]

Advisory Committee on International Law; Notice of Committee Meeting

A meeting of the Advisory Committee on International Law will take place on Friday, February 1, 2002, from 10 a.m. to approximately 5 p.m., as necessary, in Room 1207 of the United States Department of State, 2201 C Street, NW., Washington, DC. The meeting will be chaired by the Legal Adviser of the Department of State, William H. Taft, IV, and will be open to the public up to the capacity of the meeting room. The meeting will discuss the Draft Convention on Jurisdiction and Enforcement of Judgments, the Draft United Nations Convention on Terrorism, the International Law Commission's Articles on State Responsibility, recent legal developments related to International Court of Justice, and other current legal topics.

Entry to the building is controlled and will be facilitated by advance arrangements. Members of the public desiring access to the session should, by Wednesday, January 30, 2002, notify the Office of the Assistant Legal Adviser for United Nations Affairs (telephone (202) 647-2767) of their name, Social Security number, date of birth, professional affiliation, address and telephone number in order to arrange admittance. This includes both government and non-government admittance. All attendees must use the “C” Street entrance. One of the following valid IDs will be required for admittance: any U.S. driver's license with photo, a passport, or a U.S. Government agency ID. Because an escort is required at all times, attendees should expect to remain in the meeting for the entire morning or afternoon session.

Dated: January 4, 2002.
Mary Catherine Malin,
Attorney-Adviser, Office of United Nations Affairs, Executive Secretary, Advisory Committee on International Law.

[FR Doc. 02-1259 Filed 1-16-02; 8:45 am]

BILLING CODE 4710-08-P